DEPARTMENT OF LABOR

Employment and Training Administration

[TA-W-53,648]

International Business Machines Corporation Tulsa, OK; Certification Regarding Eligibility To Apply for Alternative Trade Adjustment Assistance

The Department adopted a new interpretation regarding the Alternative Trade Adjustment Assistance (ATAA) program in order to provide equitable access to ATAA for worker groups whose petitions for Trade Adjustment Assistance (TAA) were still in process at the time of implementation of the ATAA program on August 6, 2003 or used an obsolete petition form that did not allow the petitioners to indicate whether or not they wished to request ATAA certification. Under this new interpretation, worker groups covered by the certification of a TAA petition that was in process on August 6, 2003 may request ATAA consideration for the TAA certified worker group. In addition, certified worker groups who filed TAA petitions after that date may also request ATAA if the petition did not include an option to apply for ATAA. The request must be made to the Department and may be made by anyone who was entitled to file the original petition under section 221(a)(1) of the Trade Act of 1974, as amended.

By letter dated June 4, 2007, five workers requested ATAA consideration for workers and former workers of International Business Machines Corporation, Tulsa, Oklahoma (subject firm) who are eligible to apply for TAA under petition TA-W-53,648.

In order for the Department to issue a certification of eligibility to apply for ATAA for the subject workers, the group eligibility requirements of section 246(a)(3)(A) of the Trade Act—(1) a significant number of adversely affected workers age 50 or over; (2) whether workers possess skills that are easily transferable; and (3)whether competitive conditions within the workers' industry are adverse—must be met. The Department has determined in this case that the requirements have been met.

The investigation revealed that at least five percent of the workforce at the subject firm is at least fifty years of age; that the subject worker group possesses skills that are not easily transferable; and that competitive conditions within the accounting industry are adverse.

Conclusion

After careful review of the facts obtained on investigation, I conclude that the requirements of section 246(a)(3)(A) of the Trade Act of 1974, as amended, have been met for workers at the subject firm.

In accordance with the provisions of the Act, I make the following certification:

All workers of International Business Machines Corporation, Tulsa, Oklahoma, who became totally or partially separated from employment on or after November 26, 2002 through May 2, 2009, are eligible to apply for alternative trade adjustment assistance under section 246 of the Trade Act of 1974, as amended.

Signed in Washington, DC, this 20th day of July 2007.
Elliott S. Kushner,
Certifying Officer, Division of Trade Adjustment Assistance.

[FR Doc. E7-14418 Filed 7-25-07; 8:45 am]

BILLING CODE 4510-FN-P